DEPARTMENT OF AGRICULTURE

Forest Service

Bridger-Teton National Forest Oil and Gas Leasing EIS Authorizing BLM To Offer Oil and Gas Leases in Management Areas 21,45,71,72. Bridger-Teton National Forest, Teton, Sublette and Fremont Counties, WY

AGENCY: Forest Service, USDA—Lead Agency; Bureau of Land Management (BLM) Cooperating Agency.

ACTION: Revised and updated Notice of Intent to Prepare an Environmental Impact Statement.

SUMMARY: This Federal Register notice revises the Notice of Intent published in the January 15, 1998 Federal Register Volume 63, Number 10. The Bridger-Teton National Forest expects to file the draft EIS with the Environmental Protection Agency and make it available for public comment in October 2000. In addition to making the leasing decision for these four management areas as stated in the January 1998 Notice of Intent, the Bridger-Teton National Forest will now also re-visit the availability decision of these management areas that was made in the 1990 Land and Resource Management Plan (Forest Plan). The Bridger-Teton National Forest will consider and analyze the environmental effects of leasing and of amending the 1990 Forest Plan to remove all or portions of these management areas from availability. The analysis will also consider adding restrictions (stipulations) or changing current stipulations in the Forest Plan which would require a Forest Plan amendment.

The 1990 Bridger-Teton National Forest and Resource Management Plan identified all of Management Areas 21, 45, 71, and 72 as available for oil and gas leasing. The Forest Plan did not make the site-specific leasing decision for these lands, therefore, the Forest Plan did not make an irreversible commitment of resources. The next step in the leasing process is to complete a site-specific analysis of the Management Areas. The current oil and gas leasing analysis is tiered to the oil and gas analysis contained within the Bridger-Teton National Forest and Resource Management Plan Final Environmental Impact Statement and analyzes resource issues at a smaller scale and incorporates any new resource information. The purpose of offering Management Areas 21, 45, 71, and 72 is to provide opportunities for exploration and development of leasable minerals. A specific objective of the 1990 Forest Plan is to “Provide leasable, locatable, and salable mineral exploration and development opportunities” (see Objective 1.1(d), page 113, Bridger-Teton National Forest and Resource Management Plan). Additionally, the Federal government's policy for minerals resource management is expressed in the Mining and Minerals Policy Act of 1970. The Act directs the Forest Service to “foster and encourage private enterprise in the development of economically sound and stable industries and in the orderly and economic development of domestic resources * * *”

The Responsible Official is Carole ‘Kniffy’ Hamilton, Forest Supervisor, Bridger-Teton National Forest, Jackson, Wyoming. The decision to be made is whether or not to authorize the BLM to offer specific lands for lease, subject to the Forest Service ensuring that correct stipulations are attached to the leases issued by the BLM (36CFR228.102(e)) and to consider amending the Bridger-Teton National Forest and Resource Management Plan by adding additional stipulations and/or changing the availability decision made in the Plan for these four management areas or parts thereof. The draft EIS is expected to be available for public review in October 2000, with a final EIS estimated to be completed in March 2001. The comment period on the draft EIS will be 60 days from the date the Environmental Protection Agency publishes the notice of availability in the Federal Register.

FOR FURTHER INFORMATION CONTACT: Questions concering the proposed action and EIS should be directed to Rick Anderson at the Forest Supervisor's Office, Bridger-Teton National Forest, P.O. Box 1888, Jackson, WY 83001, phone (307) 739-5558.

SUPPLEMENTARY INFORMATION: When the Bridger-Teton National Forest and Resource Management Plan was approved in 1990, it identified, at a programmatic level, the lands available for oil and gas leasing. The next step in the leasing process is for the Forest Service to perform a site-specific leasing analysis tiered to the Forest Plan. The purpose of this analysis is to implement the authority granted to the Forest Service by the Federal Onshore Oil and Gas Leasing Reform Act of 1987 and the implementing regulations (36 CFR 228 E), and to make the leasing decision for the specific lands for which interest in leasing has been expressed.

Conducting this analysis and making the necessary determinations will include the following steps or determinations:

(a) Verify that the leasing of these lands is consistent with the Forest Plan.

(b) Determine that the leasing has been adequately addressed in a National Environmental Policy Act (NEPA) document.

(c) Determine if further analysis is needed resulting from new circumstances or new information.

(d) Determine which specific lands and under what conditions the Forest Service will consent to authorize the Bureau of Land Management (BLM) to offer for lease.

Conducting an environmental analysis on a proposed leasing action is triggered when the BLM receives an Expression of Interest in leasing a specific area. This Expression of Interest means an entity has identified a block of land that it wants to be offered for leasing. In cases where no site-specific analysis has been completed, this action requires the Forest Service to complete an analysis of the area to determine which of the nominated lands it will consent to be leased and to identify under what conditions the oil and gas activities will be permitted. The Bridger-Teton National Forest will analyze the entire management area for each of the 3 management areas where the nominated lands are located (MAs 21, 45, and 72), plus one additional, contiguous management area (MA 71).

Dated: August 14, 2000.
Carole ‘Kniffy’ Hamilton,
Forest Supervisor, Bridger-Teton National Forest, USDA Forest Service.

[FR Doc. 00-21161 Filed 8-24-00; 8:45 am]

BILLING CODE 3410-11-M